FEDERAL COMMUNICATIONS COMMISSION

Information Collection Being Submitted to the Office of Management and Budget for Review and Approval

AGENCY: Federal Communications Commission.

ACTION: Notice and request for comments.

SUMMARY: As part of its continuing effort to reduce paperwork burden and as required by the Paperwork Reduction Act (PRA) of 1995 (44 U.S.C. 3501—3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees. The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before March 3, 2014. If you anticipate that you will be submitting PRA comments, but find it difficult to do so within the period of time allowed by this notice, you should advise the FCC contact listed below as soon as possible.

ADDRESSES: Submit your PRA comments to Nicholas A. Fraser, Office of Management and Budget, via fax at 202-395-5167 or via Internet at Nicholas_A._Fraser@omb.eop.gov and to Benish Shah, Federal Communications Commission, via the Internet at Benish.Shah@fcc.gov. To submit your PRA comments by email send them to: PRA@fcc.gov.

FOR FURTHER INFORMATION CONTACT: Benish Shah, Office of Managing Director, (202) 418-7866.

SUPPLEMENTARY INFORMATION:

OMB Control Number: 3060-1139.

Title: FCC Consumer Broadband Services Testing and Measurement.

Form No.: N/A.

Type of Review: Revision of a currently approved collection.

Respondents: Individuals or households; business or other for-profit; and state, local or tribal government.

Number of Respondents: 501,020 respondents; 501,020 responses.

Estimated Time per Response: 1 to 200 hours.

Frequency of Response: Biennial reporting requirement and third party disclosure requirement.

Obligation to Respond: Voluntary. Statutory authority for this information collection is contained in the Broadband Data Improvement Act of 2008, Public Law 110-385, Stat 4096,

103(c)(1).

Total Annual Burden: 46,667 hours.

Total Annual Cost: N/A.

Privacy Act Impact Assessment: This information collection affects individuals or households. However, personally identifiable information (PII) is not being collected by, made available to or made accessible by the Commission but instead by third parties including SamKnows, a third party contractor, and Internet Service Provider (ISP) Partners.

Nature and Extent of Confidentiality: No personally identifying information (PII) will be transmitted to the Commission from the contractor as a matter of vendor policy and agency privacy policy. SamKnows maintains a series of administrative, technical, and physical safeguards to protect against the transmission of PII. At point of registration, individuals will be given full disclosure in a “privacy statement” highlighting what information will be collected. ISP Partners will receive PII about volunteers to confirm the validity of the information against their subscription records, but will be bound by a non-disclosure agreement that will maintain various administrative, technical and physical safeguards to protect the information and limit its use. ISP Partners providing support to the testing program will likewise be bound to the same series of administrative, technical and physical safeguards developed by SamKnows. In addition all third parties supporting the program directly will be bound by a “Code of Conduct” to ensure all participate and act in good faith and with other legally enforceable documents such as non-disclosure agreements.

Needs and Uses: The Commission will submit this revised information collection to the Office of Management and Budget (OMB) order to obtain the full three year clearance from them. The Commission is reporting a program change (there has been a program change in the reporting requirements, the number of respondents increased from 11,016 to 46,667). The Commission is requesting OMB approval for this revision.

The Broadband Data Improvement Act of 2008, Public Law 110-385, Stat 4096, 103(c)(1) directs the Commission to collect information on the type of technology used to provide broadband to consumers, the price of such services, actual transmission speeds, and the reasons for non-adoption of broadband service.

This collection of information is necessary to complete research done for the Broadband Plan on key consumer issues including transparency and actual speeds and performance of broadband service and broadband usage and performance in schools and libraries.

The Commission's Office of Engineering and Technology (OET), Office of Strategic Planning and Policy Analysis (OSPPA) and Consumer and Governmental Affairs Bureau (CGB) and other Commission entities use the information collected under this study to assess what actual broadband speeds and performance consumers are currently receiving from providers. Our purpose is to measure the speed of broadband services provided by ISPs across service packages and geographies, rather than to assess the differences in broadband performance received by demographics. This assessment will help the Commission create standards for broadband measurements, assess the validity of ISP performance claims, and inform future steps to increasing transparency and consumer awareness of broadband service.

Federal Communications Commission.
Marlene H. Dortch,
Secretary, Office of the Secretary, Office of Managing Director.

[FR Doc. 2014-01982 Filed 1-30-14; 8:45 am]

BILLING CODE 6712-01-P